DEPARTMENT OF ENERGY

Federal Energy Regulatory Commission

[Project No. 13466-000]

City of Gresham, OR; Notice of Preliminary Permit Application Accepted for Filing and Soliciting Comments, Motions To Intervene, and Competing Applications

June 9, 2009.

On May 15, 2009, the City of Gresham (permittee) filed an application for a three-year preliminary permit under Section 4(f) of the Federal Power Act (FPA) ¹ to study the feasibility of the proposed 50-kilowatt (kW) City of Gresham Wastewater Treatment Plant Outfall Hydroelectric Project No. 13466. The project would be located in Multnomah County, Oregon. The existing City of Gresham Wastewater Treatment Plant (plant) and outfall is owned by the permittee. The sole purpose of a preliminary permit, if issued, is to grant the permit holder priority to file a license application during the permit term. A preliminary permit does not authorize the permit holder to perform any land disturbing activities or otherwise enter upon lands or waters owned by others without the owners' express permission.

¹ 16 U.S.C. 797(f). Three years is the maximum term for a preliminary permit. See FPA Section 5, 16 U.S.C. 798.

Under current operating conditions, treated wastewater (effluent) from the plant is discharged into three parallel outfall pipes. These three pipes combine into a single pipeline before discharging the effluent into the Columbia River. Under the permittee's proposal, effluent in one of the existing three parallel pipes would flow into a powerhouse to generate electricity before returning to the existing pipeline system. The project would consist of: (1) An existing 3,650-foot-long, 4-foot-diameter outfall pipe directing effluent from the plant to the powerhouse and from the powerhouse to the final outfall pipe; (2) a new 12-foot-high, 16-foot-long concrete powerhouse; (3) a new single turbine/generator unit with an installed capacity of 50 kW; (4) a new 10-foot-long, 10-foot-wide concrete building to house additional controls and equipment; (5) an existing 650-foot-long, 4.5-foot-diameter outfall pipe discharging flows into the Columbia River; (6) a new 100-foot-long, 12.47-kilovolt transmission line extending from the powerhouse to a proposed intertie with a Portland General Electric power line; and (7) appurtenant facilities. The plant and portions of the outfall that are not directly affected by the project are not included as project features. The proposed project would generate about 413 megawatt-hours annually.

Applicant Contact: Michael Nacrelli, Department of Environmental Services, City of Gresham, Oregon, 1333 NW. Eastman Parkway, Gresham, OR 97030; phone: (503) 661-3000.

FERC Contact: Jennifer Harper, (202) 502-6136.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link located at http://www.ferc.gov/docs-filing/efiling.asp. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13466) in the docket number field to access the document. For assistance, call toll-free 1-866-208-3372.

Kimberly D. Bose,
Secretary.

[FR Doc. E9-14028 Filed 6-12-09; 8:45 am]

BILLING CODE 6717-01-P